DEPARTMENT OF THE INTERIOR

National Park Service

[NPS-WASO-NAGPRA-NPS0029809; PPWOCRADN0-PCU00RP14.R50000]

Notice of Intent To Repatriate Cultural Items: State of Hawaii Department of Transportation, Honolulu, HI

AGENCY: National Park Service, Interior.

ACTION: Notice.

SUMMARY: The State of Hawaii Department of Transportation, in consultation with the appropriate Native Hawaiian organizations, has determined that the cultural items listed in this notice meet the definition of unassociated funerary objects and sacred objects. Lineal descendants or representatives of any Native Hawaiian organization not identified in this notice that wish to claim these cultural items should submit a written request to the State of Hawaii Department of Transportation. If no additional claimants come forward, transfer of control of the cultural items to the lineal descendants or Native Hawaiian organizations stated in this notice may proceed.

DATES: Lineal descendants or representatives of any Native Hawaiian organization not identified in this notice that wish to submit a claim for these cultural items should submit a written request with information in support of the claim to the State of Hawaii Department of Transportation at the address in this notice by April 2, 2020.

ADDRESSES: Jade T. Butay, Director, State of Hawaii Department of Transportation, 869 Punchbowl Street, Honolulu, HI 96813, telephone (808) 587-2150, email Jade.Butay@hawaii.gov.

SUPPLEMENTARY INFORMATION: Notice is here given in accordance with the Native American Graves Protection and Repatriation Act (NAGPRA), 25 U.S.C. 3005, of the intent to repatriate cultural items under the control of the State of Hawaii Department of Transportation, Honolulu, HI, that meet the definition of unassociated funerary objects and sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

From 1989 to 1992, 13 cultural items were removed from Hawai`i State Inventory of Historic Places (SIHP) site #s 50-80-09-2134, 50-80-09-2136, 50-80-09-2137, and 50-80-09-2010 in Aiea, HI. The items were discovered and collected in Halawa Valley during archeological work for the construction of the Interstate Route H-3 Freeway, and have since been housed at the Bernice Pauahi Bishop Museum on behalf of the State of Hawaii Department of Transportation. The 11 unassociated funerary objects are three unidentified bones, one dog bone, one bag of soil, one bag of basalt lithic, one bag of wood charcoal, one milled wood, one lithic, one shell, and one bowl/cup. The two sacred objects are one zoomorphic bowl and one basalt cup. The unassociated funerary objects were catalogued under Project #379 and placed in bags numbering: 370, 367, 420, 421, 422, 2470, 0024C, and in catalog numbering B1-85-107 and B1-85-260. During a review of the artifact database, these items were discovered by Office of Hawaiian Affairs staff. The evidence of cultural affiliation was recorded in the artifacts database as “Possible Association with Individual #1,” and listed as “burial fill” intended for reburial.

In consultation with the Office of Hawaiian Affairs and lineal descendant Ella Paguyo, and ahupua`a-affiliated descendant Clara Matthews, it is believed that these artifacts are unassociated funerary objects and were to be part of the repatriation that took place on September 13, 1992, for the individuals identified and disinterred during archeological investigations preceding construction of the Interstate H-3 in Halawa Valley. It is further believed that the sacred objects are for ceremonial purposes. In the October 17, 1992, Halawa Valley Reinterment Report, Ella Paguyo, Clara and Boots Matthews, and Vivian Hong were listed as lineal and ahupua'a-affiliated descendants.

Determinations Made by the State of Hawaii Department of Transportation

Officials of the State of Hawaii Department of Transportation have determined that:

• Pursuant to 25 U.S.C. 3001(3)(B), the 11 cultural items described above are reasonably believed to have been placed with or near individual human remains at the time of death or later as part of the death rite or ceremony and are believed, by a preponderance of the evidence, to have been removed from a specific burial site of a Native Hawaiian individual.

• Pursuant to 25 U.S.C. 3001(3)(C), the two cultural items described above are specific ceremonial objects needed by traditional Native American religious leaders for the practice of traditional Native American religions by their present-day adherents.

• Pursuant to 43 CFR 10.14(b), Ella Paguyo, Clara and Boots Matthews, and Vivian Hong are lineal and Ahupua'a-affiliated descendants of the individual with whom the 13 cultural items described above were placed.

Additional Requestors and Disposition

Lineal descendants or representatives of any Native Hawaiian organization not identified in this notice that wish to submit a claim for these cultural items should submit a written request with information in support of the claim to Jade T. Butay, Director, State of Hawaii Department of Transportation, 869 Punchbowl Street, Honolulu, HI 96813, telephone (808) 587-2150, email Jade.Butay@hawaii.gov, by April 2, 2020. After that date, if no additional claimants have come forward, transfer of control of the unassociated funerary objects and sacred objects to the lineal descendants listed in this notice may proceed.

The State of Hawaii Department of Transportation is responsible for notifying the Native Hawaiian organizations and lineal descendants that this notice has been published.

Dated: February 7, 2020.
Melanie O'Brien,
Manager, National NAGPRA Program.

[FR Doc. 2020-04326 Filed 3-2-20; 8:45 am]

BILLING CODE 4312-52-P